DEPARTMENT OF VETERANS AFFAIRS

Advisory Committee on Women Veterans; Notice of Meeting

The Department of Veterans Affairs (VA) gives notice under the Federal Advisory Committee Act, 5 U.S.C. App. 2., that the Advisory Committee on Women Veterans will meet on March 25-27, 2014, in the G. V. “Sonny” Montgomery Conference Center, Room 230, at VA Central Office, 810 Vermont Avenue NW., Washington, DC, from 8:30 until 4:30 p.m. each day. The meeting is open to the public.

The purpose of the Committee is to advise the Secretary of Veterans Affairs regarding the needs of women Veterans with respect to health care, rehabilitation, compensation, outreach, and other programs and activities administered by VA designed to meet such needs. The Committee makes recommendations to the Secretary regarding such programs and activities.

The agenda will include updates from the Veterans Health Administration, the Veterans Benefits Administration, the National Cemetery Administration and Staff Offices, and updates on recommendations from the 2012 Report of the Advisory Committee on Women Veterans. The Committee will also work on its 2014 Congressionally-mandated report.

No time will be allocated at this meeting for receiving oral presentations from the public. Interested parties should provide written comments for review by the Committee to Ms. Shannon L. Middleton, VA, Center for Women Veterans (00W), 810 Vermont Avenue NW., Washington, DC 20420, or email at 00W@mail.va.gov, or fax to (202) 273-7092. Because the meeting will be in a Government building, anyone attending must be prepared to show a valid photo ID for checking in. Please allow 15 minutes before the meeting begins for this process. Any member of the public who wishes to attend the meeting or wants additional information should contact Ms. Middleton at (202) 461-6193.

By Direction of the Secretary.
Jelessa M. Burney,
Advisory Committee Management Officer.

[FR Doc. 2014-03175 Filed 2-12-14; 8:45 am]

BILLING CODE 8320-01-P